DEPARTMENT OF COMMERCE

National Oceanic and Atmospheric Administration

50 CFR Part 300

[Docket No.000218046-0046-01; I.D. 121599F]

RIN 0648-AN42

Antarctic Marine Living Resources; Harvesting and Dealer Permits, and Catch Documentation

AGENCY: National Marine Fisheries Service (NMFS), National Oceanic and Atmospheric Administration (NOAA), Commerce.

ACTION: Proposed rule; request for comments.

SUMMARY: NMFS proposes regulations to revise permit requirements for U.S. vessels harvesting, or transshipping catch of, Dissostichus eleginoides (Patagonian toothfish) and Dissostichus mawsoni (Antarctic toothfish) harvested in all waters, including those under the jurisdiction of the Commission for the Conservation of Antarctic Marine Living Resources (CCAMLR). These regulations would also govern U.S. receivers, importers and exporters of toothfish, wherever caught. Persons receiving, importing or re-exporting toothfish would be required to validate and submit Dissostichus Catch Documents to NMFS. This rule is intended to implement U.S. obligations as a Contracting Party of CCAMLR and to conserve Antarctic and Patagonian toothfish by preventing or otherwise discouraging unlawful harvest and trade in these species.

DATES: Comments must be received no later than 5:00 p.m., eastern standard time, on April 7, 2000.

ADDRESSES: Comments on the proposed rule should be submitted to Dean Swanson, International Fisheries Division, Office of Sustainable Fisheries, NMFS, 1315 East-West Highway, Silver Spring, MD 20910. For copies of the draft Environmental Assessment/Regulatory Impact Review/Regulatory Flexibility Analysis (EA/RIR/RFA), call 301-713-2276 or write to Dean Swanson. Comments also may be sent via facsimile (fax) to 301-713-2313. Comments will not be accepted if submitted via e-mail or Internet. Send comments regarding the burden-hour estimates or other aspects of the collection-of-information requirements contained in this proposed rule to Dean Swanson and to the Office of Information and Regulatory Affairs, Office of Management and Budget (OMB), Washington, DC 20503 (Attention: NOAA Desk Officer).

FOR FURTHER INFORMATION CONTACT: Dean Swanson or Angela Somma at 301-713-2276, fax: 301-713-2313.

SUPPLEMENTARY INFORMATION: The Antarctic fisheries are managed under the authority of the Antarctic Marine Living Resources Convention Act of 1984 (Act) codified at 16 U.S.C. 2431 et seq. NMFS implements CCAMLR conservation measures by regulations at 50 CFR part 300, subpart G. Changes to the existing regulations are necessary to incorporate new conservation measures and to revise procedures to facilitate enforcement.

Toothfish Catch Documentation

Due to the scale of illegal, unregulated or unreported fishing for Patagonian toothfish (Dissostichus eleginoides) and Antarctic toothfish (Dissostichus mawsoni) in and beyond the Convention for the Conservation of Antarctic Marine Living Resources (Convention) waters, CCAMLR has adopted a number of conservation measures in the last several years. These measures have included flag state licensing of fishing vessels, catch quotas, vessel monitoring systems, port inspections of landings and transshipments, and identification of vessels and fishing gear.

Despite increased inspections and sanctions in recent years, the amount of illegal, unregulated or unreported harvest of toothfish has been estimated at 90,000 metric tons, about twice the level of the CCAMLR regulated fisheries. Consequently CCAMLR adopted a catch documentation scheme for toothfish at its eighteenth regular meeting in November, 1999. (64 FR 71165, December 20, 1999). A copy of the proposed CCAMLR Dissostichus Catch Document (DCD) and of the CCAMLR Conservation Measure specifying the operation of the catch documentation scheme can be obtained from NMFS (see ADDRESSES).

The purposes of the catch documentation scheme are to: monitor international trade; identify the origins of imports; determine if imports caught in the Convention Area were caught consistent with CCAMLR conservation measures; and gather catch data for stock assessment. The documentation scheme requires that CCAMLR Contracting Parties provide a uniquely numbered DCD to each vessel under its jurisdiction that is authorized to harvest toothfish. Upon completion of the document, each DCD accompanies the toothfish as it enters into commerce and/or international trade and documents the chain of custody. This proposed rule would provide a 60-day exception for toothfish harvested prior to the implementation of the DCD by NMFS.

As specified in the CCAMLR conservation measure, a flag state would issue non-transferrable DCDs that are uniquely identified for a vessel. The master of the harvesting vessel would be required to record the catch information specified on the DCD and convey such catch information to the flag state prior to offloading to obtain a confirmation. Upon transshipment of Dissostichus species, the master of the harvesting vessel would be required to obtain the signature of the master of the vessel to which the catch is transferred. Upon landing Dissostichus species, the master of the harvesting vessel or the transshipment vessel would be required to obtain the signature of a responsible official and the individual that receives the catch at the port of landing. For U.S. vessels, the responsible official would be designated by NMFS in the harvesting permit. After signing the DCD, the master of the harvesting or transshipment vessel would be required to provide a copy to each recipient of the catch and to the flag state.

Any person who exports Dissostichus species would be required to complete the DCD(s) by indicating the amount, by net weight, from the original offloading listed on that DCD that is exported in the particular shipment, the name of the importer and point of import, and the exporter's name, address and permit number. The exporter would then be required to sign the DCD and obtain validation by a government authority. The original DCD would be transmitted with the export shipment.

Any person who imports Dissostichus species would be required to obtain the DCD(s) that accompany the import shipment and mail or fax the DCD(s) to NMFS. If Dissostichus species are re-exported, an exporter would be required to complete a re-export document by indicating the amount from the original DCD(s) that is re-exported in the particular export shipment, the number of the original DCD(s), the name of the importer and point of import, and the exporter's name, address and permit number. The exporter would then be required to sign the re-export document and obtain validation by an authority designated by NMFS. The original re-export document and copies of the original DCD(s) as applicable to that shipment would be transmitted with the export shipment.

Harvesting Permits

To facilitate implementation of the Dissostichus catch documentation scheme, permit requirements would be revised to include transshipment vessels. Any vessel subject to the jurisdiction of the United States that receives or attempts to receive Dissostichus species from a harvesting vessel at sea would be required to obtain a permit from NMFS.

Dealer Permits

NMFS would revise other permit requirements as well. The import permit requirements would be revised to require a dealer permit for either the import or re-export of Dissostichus species whether harvested within or outside of Convention waters. In addition, first receivers from vessels harvesting toothfish and re-exporters of Dissostichus would be required to obtain a permit and to maintain reports and records accurately and to make such reports and records available for inspection. NMFS is also adding Electorna carlsgeri and Lepidonothon kempi to the list of Antarctic living marine resource finish because they are managed by CCAMLR.

Classification

This proposed rule is published under the authority of the Antarctic Marine Living Resources Convention Act of 1984, codified at 16 U.S.C. 2431 et seq.

NMFS prepared an EA/RIR/RFA for this proposed rule (see ADDRESSES).

NMFS has concluded that this proposed rule to require permits and catch documentation for the harvest and importation of certain Antarctic marine living resources (AMLRs) would not have a significant economic impact on a substantial number of small entities. The Chief Counsel for Regulation of the Department of Commerce has certified to the Chief Counsel for Advocacy of the Small Business Administration that this proposed rule would not have a significant economic impact on a substantial number of small entities. This proposed rule would prohibit the importation of toothfish unless accompanied by a DCD and would require vessel and dealer permits for the harvest and import of all AMLRs and for the transshipment and re-export of toothfish. This proposed rule entails only the application for permits and the collection, photocopying and submission of forms to NMFS. The principal burden would be the time required to fill out application forms, keep records, obtain certifications and submit DCDs and import tickets. Approximately 30 importers and up to 10 additional re-exporters will be affected. The required information is readily available to importers. Therefore, no incremental investments in information processing technologies would be needed. Accordingly, these proposed actions, considered separately or in aggregate, are not expected to have a significant economic impact and an initial regulatory flexibility analysis was not prepared. The EA/RIR/RFA further discusses the economic effects of the proposed rule.

This proposed rule has been determined to be not significant for purposes of E.O. 12866.

The proposed action would revise existing and impose new reporting and record-keeping requirements on vessel operators, importers and exporters. Harvesting permits, dealer permits, catch documentation forms, and import tickets applicable to the ALMRs fisheries are subject to approval by the Office of Management and Budget (OMB) under the Paperwork Reduction Act (PRA). These requirements have been submitted to OMB for approval.

Notwithstanding any other provision of law, no person is required to respond to, nor shall a person be subject to a penalty for failure to comply with, a collection of information subject to the requirements of the PRA unless that collection of information displays a currently valid OMB control number.

OMB has approved CCAMLR harvesting and import permits under 0648-0194. Revisions to these requirements would require that transshipment vessels also obtain a permit and that a broader range of dealers be subject to the permit requirement. Under the proposed rule, the estimate of 30 minutes per occurrence for the dealer permit to import would not change. The application for a dealer permit to re-export is estimated to take 30 minutes per occurrence and the application for a harvest permit authorizing transshipment is estimated to take 12 minutes per occurrence. Completion and submission of an import ticket is estimated to take no more than 15 minutes per occurrence.

A new reporting and record-keeping requirement on vessel operators, importers and exporters would require that all harvesters, transshipers, importers and exporters obtain, validate and submit DCD forms to NMFS. It is estimated that completion and submission of DCDs would require three minutes for each submission by importers, ten minutes for each submission by re-exporters and fifteen minutes for each submission by harvesting vessels and transshipers. The logbook requirement in § 300.107(a) is not subject to the PRA because it is a requirement imposed by an international organization rather than NMFS.

Public comment is sought regarding whether these proposed new or revised collections-of-information are necessary for the proper performance of the functions of NMFS in meeting pending U.S. obligations to CCAMLR, including whether the information has practical utility; the accuracy of the burden estimates; ways to enhance the quality, utility, and clarity of the information to be collected; and ways to minimize the burden of the collection of information, including the use of automated collection techniques or other forms of information technology. Send comments on these or any other aspects of the collection of information to NMFS, Office of Sustainable Fisheries and OMB (see ADDRESSES).

List of Subjects in 50 CFR Part 300

Fisheries, Fishing, Fishing vessels, Foreign relations, Reporting and recordkeeping requirements, Statistics, Treaties.

Dated: March 3, 2000.
Gary C. Matlock
Acting Assistant Administrator for Fisheries, National Marine Fisheries Service.

For the reasons set out in the preamble, 50 CFR part 300 subpart G is proposed to be amended as follows:

PART 300--INTERNATIONAL FISHERIES REGULATIONS

Subpart G—Antarctic Marine Living Resources

1. The authority citation for part 300, subpart G continues to read as follows:

Authority: 16 U.S.C. 2431 et seq.

2. In § 300.101, the definition of “Antarctic finfishes” is amended by adding entries in the table for “Antarctic toothfish” and “Lanternfish” immediately following the existing entry for “Patagonian toothfish,” and an entry for “Striped-eyed rockcod” immediately following the existing entry for “Grey rockcod.” The definition of “Antarctic marine living resources or AMLR(s)” is revised, and the definitions for “Dealer”, “Dissostichus catch document (DCD)”, “Dissostichus species” and “Transship” are added in alphabetical order to read as follows:

§ 300.101 Definitions.

* * * * *

Antarctic finfishes include the following:

Scientific name | Common name
* * * * *
Lepidonothon kempi | Striped-eyed rockcod
* * * * *
Dissostichus mawsoni | Antarctic toothfish
Electrona carlsgergi | Lanternfish
* * * * *

* * * * *

Antarctic marine living resources or AMLR(s) means the populations of finfish, mollusks, crustaceans, and all other species of living organisms, including birds, found south of the Antarctic Convergence, and with respect to all species of Dissostichus, wherever found, and their parts or products.

* * * * *

Dealer means the person who first receives AMLRs from a harvesting vessel or transshipment vessel, or who imports AMLRs into, or re-exports AMLRs from the customs territory of the United States.

* * * * *

Dissostichus catch document (DCD) means the uniquely numbered catch documentation form approved by the Commission and issued by a flag state to its vessels authorized to harvest and/or transship Dissostichus species.

Dissostichus species means Patagonian toothfish and/or Antarctic toothfish and their parts or products.

* * * * *

Transship means offloading, onloading, otherwise transferring or transporting fish or fish products.

* * * * *

3. Section 300.107 is revised to read as follows:

§ 300.107 Reporting and recordkeeping requirements.

(a) Vessels. The operator of any vessel required to have a permit under this subpart must:

(1) Accurately maintain on board the vessel a fishing logbook and all other reports and records required by its permit.

(2) Make such reports and records available for inspection upon the request of an authorized officer or CCAMLR inspector.

(3) Within the time specified in the permit, submit a copy of such reports and records to NMFS at an address designated by NMFS.

(b) Dealers. Dealers of AMLRs required to have a permit under this subpart must:

(1) Accurately maintain all reports and records required by its permit.

(2) Make such reports and records available for inspection upon the request of an authorized officer or CCAMLR inspector.

(3) Within the time specified in the permit, submit a copy of such reports and records to NMFS at an address designated by NMFS.

(c) Catch documentation. No shipment of Dissostichus species shall be released for entry into the customs territory of the United States unless accompanied by a complete and validated CCAMLR DCD, except as provided in paragraph (c)(6) of this section. The CCAMLR DCD must accompany all shipments of Dissostichus species as follows:

(1) Harvesting vessels. In addition to any harvesting permit or authorization previously issued, a U.S. vessel harvesting or attempting to harvest Dissostichus species must have been issued by NMFS a DCD that is uniquely identified for that vessel and is non-transferrable. The master of the harvesting vessel must ensure that the catch information specified on the DCD is accurately recorded. Prior to offloading the master must convey such catch information to NMFS by the most rapid electronic means possible, and must record on the DCD a confirmation number received from NMFS. Upon transshipment or landing Dissostichus species, the master of the harvesting vessel must obtain on the DCD, or copies thereof, either the signature(s) of the master of the vessel(s) to which the catch is transferred or the signature of a responsible official(s) designated by NMFS in the harvesting permit and the dealer(s) that receives the catch at the port(s) of landing. The master of the harvesting vessel shall sign the DCD, or copies thereof, convey each copy to NMFS by the most rapid electronic means possible, and provide a copy to each recipient of the catch. The master of the harvesting vessel must submit the original DCD, or copies thereof with original signatures by the master and recipient(s), to NMFS at an address designated by NMFS no later than 30 days after the end of the fishing season as authorized for that vessel on its harvesting permit.

(2) Transshipment vessels. The master of a U.S. vessel issued a permit to receive Dissostichus species at sea must, upon receipt of Dissostichus species at sea, sign each DCD provided by the master of the harvesting vessel and retain a copy for a period of 2 years. Upon landing Dissostichus species received at sea, the master of the receiving vessel must obtain on each DCD, or copies thereof, the signature of a responsible official(s) designated by NMFS in the permit and the person/dealer(s) that receives the catch at the port(s) of landing. The master of the receiving vessel must sign each DCD, or copies thereof, convey each copy to NMFS and to the flag state(s) of the harvesting vessel(s) by the most rapid electronic means possible and provide a copy to each recipient of the catch. The master of the receiving vessel must submit a copy of each DCD with original signatures by the master of the receiving vessel and recipient(s) of the landed catch to NMFS at an address designated by NMFS no later than 30 days after offloading in port.

(3) Receivers upon landing. Any dealer who receives Dissostichus species from a harvesting vessel or from a transshipment vessel must sign the DCD(s) provided by the master of the vessel.

(4) Import. Any dealer who imports Dissostichus species must obtain the DCD(s) that accompany the import shipment, mail or fax the DCD(s) to NMFS at an address designated by NMFS within 24 hours of the release from customs custody, retain a copy for his/her records and provide copies to exporters as needed. Dealers must retain at their place of business a copy of the DCD for a period of 2 years from the date on the DCD.

(5) Re-export. Any dealer who re-exports Dissostichus species must complete a Dissostichus re-export document by indicating the amount from the original DCD(s) that is exported in the particular export shipment, the number of the original DCD(s), the name of the importer and point of import, and the exporter's name, address and permit number. The dealer must then sign the re-export document and obtain validation by an authority designated by NMFS. The original validated Dissostichus re-export document and copies of the original DCD(s)must accompany the export shipment. The dealer must retain a copy of the re-export document and copies of the DCD(s). Dealers must retain at their place of business a copy of the DCD for a period of 2 years from the date on the DCD.

(6) Exception. Dissostichus species harvested prior to the effective date of this rule may be imported during the first 60 days following the effective date of this rule, provided that the date of the harvest are corroborated on the dealer permit.

4. In § 300.112, paragraph (k) is added to read as follows:

§ 300.112 Harvesting permits.

* * * * *

(k) Transshipment vessels. Any vessel subject to the jurisdiction of the United States that receives or attempts to receive Dissostichus species from a harvesting vessel at sea, regardless of whether such transshipment occurs in waters under the jurisdiction of CCAMLR, must obtain from NMFS a harvesting permit authorizing transshipment. Transshipment vessels must comply with the permitting provisions of this section with respect to harvesting vessels.

5. Section 300.113 is revised to read as follows:

§ 300.113 Dealer permits.

(a) General. (1) A dealer must obtain an AMLRs dealer permit from NMFS. Only those specific activities stipulated by the permit are authorized for the permit holder.

(2) An AMLR may be imported into the United States if its harvest has been authorized by a U.S.-issued individual permit or a harvesting permit or its importation has been authorized by a U.S.-issued dealer permit issued pursuant to § 300.112 or paragraph (a) of this section. The harvesting permit, or the individual permit, a NMFS issued dealer permit, or a copy thereof, must accompany the import.

(3) In addition to any applicable catch documentation required under § 300.107, the dealer is required to complete and return to NMFS, no later than 24 hours after the date of the importation, an import ticket reporting the importation. Import tickets will be attached to the permit. Additional import tickets are available from NMFS. In no event may a marine mammal be imported into the United States unless authorized and accompanied by an import permit issued under the Marine Mammal Protection Act and/or the Endangered Species Act.

(4) A dealer permit issued under this section does not authorize the harvest or transshipment of any AMLR by or to a vessel of the United States.

(b) Application. Application forms for AMLR dealer permits are available from NMFS at an address designated by NMFS. A fully completed and accurate application must be submitted for each permit at least 30 days before the anticipated date of the receipt, importation or re-export.

(c) Issuance. NMFS may issue a dealer permit if it determines that the activity proposed by the dealer meets the requirements of the Act and that the resources were not or will not be harvested in violation of any conservation measure in force with respect to the United States or in violation of any regulation in this subpart.

(d) Duration. A permit issued under this section is valid from its date of issuance to its date of expiration unless it is revoked or suspended.

(e) Transfer. A permit issued under this section is not transferable or assignable.

(f) Changes in information. (1) Pending applications. Applicants for permits under this section must report in writing to NMFS any change in the information submitted in their permit applications. The processing period for the application will be extended as necessary to review and consider the change.

(2) Issued permits. Any entity issued a permit under this section must report in writing to NMFS any changes in previously submitted information. Any changes that would not result in a change in the receipt or importation authorized by the permit must be reported on the import ticket required to be submitted to NMFS no later than 24 hours after the date of receipt or importation. Any changes that would result in a change in the receipt or importation authorized by the permit, such as harvesting vessel or country of origin, type and quantity of the resource to be received or imported, and Convention statistical subarea from which the resource was harvested, must be proposed in writing to NMFS and may not be undertaken unless authorized by NMFS through issuance of a revised or new permit.

(g) Revision, suspension, or revocation. A permit issued under this section may be revised, suspended, or revoked, based upon a violation of the permit, the Act, or this subpart. Failure to report a change in the information contained in a permit application voids the application or permit, as applicable. Title 15 CFR part 904 governs permit sanctions under this subpart.

6. In § 300.115, paragraph (b) is revised and paragraphs (q) and (r) are added to read as follows:

§ 300.115 Prohibitions.

* * * * *

(b) Import into or export from the customs territory of the United States any AMLRs taken by vessels without a permit to harvest those resources as required by § 300.112, or without applicable catch documentation as required by § 300.107, or without a dealer permit receive, import or export to the AMLRs as required by § 300.113.

* * * * *

(q) Fail to complete and sign applicable catch documentation, or provide false information about the harvest, transshipment, landing, import or re-export of applicable species as required by § 300.107.

(r) Receive AMLRs from a vessel without a dealer or harvesting permit issued under this subpart or in violation of the terms and conditions for such receipt as specified on the permit.

7. In § 300.116, paragraph (d) is added to read as follows:

§ 300.116 Facilitation of enforcement and inspection.

* * * * *

(d) Disposition of resources denied entry. (1) When AMLRs are offered for entry into the Customs territory of the United States unaccompanied by a permit authorizing import and/or required catch documentation, the importer of record must either:

(i) Abandon the resources;

(ii) Waive claim to the resources; or

(iii) Place the resources into a bonded warehouse and attempt to obtain a permit and/or documentation authorizing their importation.

(2) If, within 60 days of such resources being placed into a bonded warehouse, the District Director of the U.S. Customs Service receives documentation that import of the resources into the United States is authorized by a permit and that required documentation has been submitted to NMFS, the resources will be allowed entry. If a permit or catch documentation is not presented within 60 days, the importer's claim to the resources will be deemed waived.

(3) When resources are abandoned or claim to them is waived, the resources will be delivered to the Administrator of NOAA, or a designee, for storage or disposal as authorized by law. In such case, actual costs of delivery, storage and/or disposal may be assessed against the importer of record.

[FR Doc. 00-5783 Filed 3-8-00; 5:07pm]

BILLING CODE 3510-22-F